CONSUMER PRODUCT SAFETY COMMISSION

Agency Information Collection Activities; Submission for Office of Management and Budget Review; Comment Request; Procedures for Export of Noncomplying Goods

AGENCY: Consumer Product Safety Commission.

ACTION: Notice.

SUMMARY: The Consumer Product Safety Commission (“CPSC” or “Commission”) is announcing that a proposed collection of information has been submitted to the Office of Management and Budget (“OMB”) for review and clearance under the Paperwork Reduction Act of 1995 (“PRA”).

DATES: Fax written comments on the collection of information by September 30, 2010.

ADDRESSES: To ensure that comments on the information collection are received, OMB recommends that written comments be faxed to the Office of Information and Regulatory Affairs, OMB, Attn: CPSC Desk Officer, FAX: 202-395-6974, or e-mailed to oira_submission@omb.eop.gov. Written comments should be captioned “Export of Noncomplying Goods.” All comments should be identified with the OMB Control Number 3041-0003. In addition, written comments should also be submitted by mail/hand delivery/courier (for paper, disk, or CD-ROM submissions), preferably in five copies, to: Office of the Secretary, Consumer Product Safety Commission, Room 820, 4330 East West Highway, Bethesda, MD 20814; telephone (301) 504-7923.

FOR FURTHER INFORMATION CONTACT: Linda Glatz, Division of Policy and Planning, Office of Information Technology, Consumer Product Safety Commission, 4330 East-West Highway, Bethesda, MD 20814. 301-504-7671. lglatz@cpsc.gov.

SUPPLEMENTARY INFORMATION: In compliance with 44 U.S.C. 3507, the CPSC has submitted the following proposed collection of information to OMB for review and clearance.

Procedures for Export on Noncomplying Goods—(OMB Control Number 3041-0003-Extention). The Commission requested comments on a proposed three year extension of approval of information collection requirements in regulations codified at 16 CFR part 1019, which establish procedures for export of noncomplying, misbranded, or banned products. These regulations implement provisions of the Consumer Product Safety Act, the Federal Hazardous Substances Act, and the Flammable Fabrics Act, as amended by the Consumer Product Safety Improvement Act of 2008. Persons and firms are required to notify the Commission before exporting any product that fails to comply with an applicable standard or regulation enforced under provisions of those laws. The Commission is required to transmit the information relating to the proposed exportation to the government of the country of intended destination. In addition, for any consumer product that is not in conformity with an applicable consumer product safety rule, exports from the United States may be prohibited unless the importing country has notified the Commission that such country accepts the importation of such consumer product. 15 U.S.C. 2067.

In the Federal Register of May 18, 2010 (75 FR 27732), the CPSC published a 60-day notice requesting public comment on the proposed collection of information. No comments were received.

We estimate the burden of this collection of information as follows. Based on a review of the number of export requests received by the CPSC during the last three years, the CPSC staff estimates that approximately 44 notifications will be received from an estimated 20 firms per year. The staff further estimates that the average time for each response is one hour, for a total of 44 hours of annual burden. The annualized cost to respondents would be approximately $2,505. (44 hours at $56.93 per hour based on total compensation of all management, professional, and related occupations in goods-producing industries in the United States, September 2009, Bureau of Labor Statistics.)

The estimated annual cost of the information collection requirements to the Federal government is approximately $14,000. The staff estimates that it takes about three hours to process an export notification and enter the information in the appropriate database. The receipt and processing of 44 notifications would require approximately 132 staff hours or approximately 1 staff month per year.

Dated: August 25, 2010.
Todd A. Stevenson,
Secretary, Consumer Product Safety Commission.

[FR Doc. 2010-21644 Filed 8-30-10; 8:45 am]

BILLING CODE 6355-01-P